DEPARTMENT OF THE INTERIOR

National Park Service

National Register of Historic Places; Notification of Pending Nominations and Related Actions

Nominations for the following properties being considered for listing or related actions in the National Register were received by the National Park Service before June 13, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington DC 20005; or by fax, 202-371-6447. Written or faxed comments should be submitted by July 13, 2009.

J. Paul Loether,
Chief, National Register of Historic Places/National Historic Landmarks Program.

COLORADO

Alamosa County

Alamosa Post Office (US Post Offices in Colorado, 1900-1941, TR) 703 4th St., Alamosa, 09000544

LOUISIANA

De Soto Parish

Community Rosenwald School, LA 3015, Grand Cane, 09000545

Longstreet Rosenwald School, LA 5, Longstreet, 09000546

Lafourche Parish

House at 816 Jackson Street, 816 Jackson St., Thibodaux, 09000547

MAINE

Aroostook County

Elms, The, 59 Court St., Houlton, 09000549

Hancock County

Harbor Lane—Eden Street Historic District, Portions of Harbor Ln. and Eden St., Bar Harbor, 09000550

MARYLAND

Baltimore Independent City

Hollins-Roundhouse Historic District, W. Baltimore and Schroeder Sts., S. on Schroeder to Lombard; W. on Lombard to Carey, S. to Pratt; E. on Pratt to Hayes, Baltimore, 09000548

MICHIGAN

Ingham County

Lansing Downtown Historic District, N. and S. Washington, Grand, N. and S. Capitol, Michigan Ave., Allegan, Washtenaw, Kalamazoo, Lenawee, and Townsend, Lansing, 09000551

MISSOURI

Jackson County

Peters, Nelle E., Troost Avenue Historic District (Working-Class and Middle-Income Apartment Buildings in Kansas City, Missouri MPS), 2719-37 Troost Ave.; 2730 Troost Ave., Kansas City, 09000552

NEW YORK

Albany County

Matton Shipyard, Delaware Ave., Cohoes, 09000553

Erie County

Entranceway at Main Street at Darwin Drive (Suburban Development of Buffalo, New York MPS), Main St. at Darwin Dr., Amherst, 09000554

Entranceway at Main Street at High Park Boulevard (Suburban Development of Buffalo, New York MPS), Main St. at High Parl Blvd., Amherst, 09000555

Entranceway at Main Street at Lafayette Boulevard (Suburban Development of Buffalo, New York MPS), Main St. at Lafayette Blvd., Amherst, 09000556

Entranceway at Main Street at LeBrun Road (Suburban Development of Buffalo, New York MPS), Main St. at LeBrun Rd., Amherst, 09000557

Entranceway at Main Street at Westfield Road and Ivyhurst Road (Suburban Development of Buffalo, New York MPS), Main St. at Westfield Rd. and Ivyhurst Rd., Amherst, 09000558

Monroe County

Lake View Cemetery, NY 19, Brockport, 09000559

Oneida County

Sylvan Beach Union Chapel, 805 Park Ave., Sylvan Beach, 09000560

Ulster County

New Paltz Downtown Historic District, Main, N. Chestnut, S. Chestnut, Church, N. Front, Academy and W. Center Sts., Innis and Plattekill Aves., New Paltz, 09000561

OHIO

Belmont County

Concord Hicksite Friends Meeting House, Negus Rd., Colerain Township, 09000562

Clark County

Olive Branch High School, 9710 W. National Rd., New Carlisle, 09000563

Franklin County

Groveport School, 715 E. Main St., Groveport, 09000564

WYOMING

Laramie County

Crow creek—Cole Ranch Headquarters Historic District, 1065 Happy Jack Rd., Cheyenne, 09000565

[FR Doc. E9-15197 Filed 6-25-09; 8:45 am]

BILLING CODE P